DEPARTMENT OF ENERGY

U.S. Nuclear Regulatory Commission Technical Evaluation Report for the Phase 1 Decommissioning Plan for the West Valley Demonstration Project, West Valley, NY

AGENCY: Department of Energy.

ACTION: Notice of availability.

SUMMARY: The U.S. Department of Energy (DOE) announces the availability of the U.S. Nuclear Regulatory Commission (NRC) Technical Evaluation Report (TER) for the Phase 1 Decommissioning Plan for the West Valley Demonstration Project, West Valley, NY. The Phase 1 Decommissioning Plan describes the Phase 1 decommissioning actions for the West Valley Demonstration Project (WVDP) and is consistent with DOE's preferred alternative in the Final Environmental Impact Statement for Decommissioning and/or Long-Term Stewardship at the West Valley Demonstration Project and Western New York Nuclear Service Center (DOE/EIS-0226).

ADDRESSES: Copies of the U.S. Nuclear Regulatory Commission Technical Evaluation Report for the Phase 1 Decommissioning Plan for the West Valley Demonstration Project are available for public inspection at the following locations:

U.S. Department of Energy, FOIA Reading Room, Room 1G-033, Forrestal Building, 1000 Independence Avenue, SW., Washington, DC 20585-0001, (202) 586-5955.

Concord Public Library, DOE-WVDP Public Reading Room, 18 Chapel Street, Springville, NY 14141, 716-592-7742.

Ashford Office Complex Public Reading Room, 9030 Route 219, West Valley, NY 14171-0191, (716) 942-4679.

U.S. Department of Energy West Valley Demonstration Project Web site: http://www.wv.doe.gov.

U.S. Nuclear Regulatory Commission Electronic Reading Room Web site: http://www.nrc.gov/reading-rm/adams.html.

FOR FURTHER INFORMATION CONTACT:

Ms. Moira N. Maloney, Decommissioning Plan Project Manager, West Valley Demonstration Project, U.S. Department of Energy, 10282 Rock Springs Road, West Valley, New York 14171-0191 or via electronic mail at Moira.N.Maloney@wv.doe.gov.

Mr. Bryan C. Bower, Director, West Valley Demonstration Project, U.S. Department of Energy, 10282 Rock Springs Road, West Valley, New York 14171-0191, or via electronic mail at Bryan.Bower@wv.doe.gov.

SUPPLEMENTARY INFORMATION:

The West Valley Demonstration Project Act (the Act), Public Law 96-368 of October 1, 1980, directed DOE to carry out a high-level radioactive waste management demonstration project at the Western New York Nuclear Service Center in West Valley, New York. The purpose of the project was to demonstrate the solidification of high-level radioactive waste for disposal in a Federal repository for permanent disposal. The Act also requires the Department to decontaminate and decommission the underground waste storage tanks and other facilities where the solidified high-level radioactive waste was stored, the facilities used in the solidification of the waste, and any material and hardware used in connection with the project in accordance with such requirements as the NRC may prescribe.

In accordance with the Act, DOE entered into an agreement with the NRC to establish arrangement for review and consultation by the NRC for the Project. The procedures for NRC review and consultation were established in the September 23, 1981, Memorandum of Understanding between DOE and NRC and section 2(c)(1) of the Act. The Act and Memorandum of Understanding require the DOE to submit to the NRC, for its review and comment, a Project Decommissioning Plan for the facilities that were used in solidifying the waste, which includes a description of engineering and operating activities to be performed. The plan was reviewed by the NRC and comments provided to DOE. DOE will review and consider the comments provided prior to the initiation of decontamination and decommissioning operations.

The decommissioning activities described in the Phase 1 Decommissioning Plan for the WVDP are consistent with the Phased Decisionmaking Alternative, the preferred alternative for project closure described in the Final Environmental Impact Statement for Decommissioning and/or Long-Term Stewardship at the West Valley Demonstration Project and Western New York Nuclear Service Center (DOE/EIS-0226). Under the Phased Decisionmaking Alternative, the decommissioning of the Project and Western New York Nuclear Service Center (WNYNSC) would be completed in two phases. Phase 1 decommissioning activities within the project premises, which are described in the Phase 1 Decommissioning Plan, are near-term removal actions that include removal of the Main Plant Process Building, Vitrification Facility, source area of the North Plateau Groundwater Plume, wastewater treatment facility lagoons, and certain ancillary buildings, foundations, slabs, and pads on the WVDP project premises. The Phase 2 decisions on the decommissioning of the remainder of the Project and WNYNSC, or its long-term management, would be made in the future and are not part of the Phase 1 Decommissioning Plan.

The TER for the Phase 1 Decommissioning Plan presents NRC's technical evaluation and view of the Phase 1 decommissioning approach for the WVDP and is based on its technical review of both the Phase 1 Decommissioning Plan and DOE responses to NRC. As prescribed in section 2(c)(1) of the West Valley Demonstration Project Act, Public Law 96-368 of October 1, 1980, and the September 23, 1981, Memorandum of Understanding between DOE and NRC, the NRC review of the DOE's Phase 1 Decommissioning Plan is an informal process, as the NRC does not have a licensing role with regard to DOE's involvement at WVDP and may not require formal procedures or actions.

DOE submitted Revision 0 of the Phase 1 Decommissioning Plan to NRC for technical review on December 3, 2008, and submitted Revision 1, which incorporated additional information, on March 16, 2009. NRC notified DOE on March 20, 2009, that it had finished its completeness review of the Phase 1 Decommissioning Plan and that it was suitable for NRC technical review. After its technical review, NRC submitted a total of 44 requests for additional information (RAI) for the Phase 1 Decommissioning Plan to the DOE on May 15, 2009. DOE responded to the NRC RAI in three separate submittals on August 13, 2009, September 16, 2009, and November 5, 2009. Revision 2 of the Phase 1 Decommissioning Plan, which incorporated the changes resulting from the responses to the NRC RAIs was submitted to the NRC on December 18, 2009.

The Department will consider NRC views on the Decommissioning Plan expressed in the TER prior to the initiation of decontamination and decommissioning operations.

As indicated by NRC, “Should the EIS process result in the selection of a different preferred alternative from that considered in the Phase 1 DP, the DP would need to be revised and resubmitted for review.”

Signed in Washington, DC on March 23, 2010.
Frank Marcinowski,
Acting Chief Technical Officer for Environmental Management.

[FR Doc. 2010-6884 Filed 3-26-10; 8:45 am]

BILLING CODE 6450-01-P